DEPARTMENT OF THE INTERIOR

Bureau of Land Management

[CA-110]

Meeting of the Central California Resource Advisory Council

ACTION: Notice of public tour.

SUMMARY: In accordance with the Federal Land Policy and Management Act (FLPMA) and the Federal Advisory Committee Act of 1972 (FACA), the U.S. Department of the Interior, Bureau of Land Management (BLM) Central California Resource Advisory Council (RAC) will hold a public tour as indicated below.

DATES: The public tour will be held Saturday, March 15, 2008, at the Clear Creek Management Area, which comprises 63,000 acres of BLM public lands in southern San Benito and western Fresno counties, California. Members of the public are welcome to attend the tour, but must provide their own transportation and lunch. Those who wish to attend the tour should meet at the Oak Flat Campground, located on Clear Creek Road off Coalinga-Los Gatos Road, at 10 a.m. The tour should conclude at about 4 p.m. The event may be postponed to a later date if there is inclement weather. To confirm the tour will take place as planned, call the BLM Hollister Field Office at (831) 630-5000.

FOR FURTHER INFORMATION CONTACT: BLM Hollister Field Office Manager Rick Cooper, (831) 630-5010; or BLM Central California Public Affairs Officer David Christy, (916) 985-4474.

SUPPLEMENTARY INFORMATION: The twelve-member Central California RAC advises the Secretary of the Interior, through the BLM, on a variety of public land issues associated with public land management in the Central California. This tour will focus on issues for the Clear Creek Management Area. Individuals who plan to attend and need special assistance such as sign language interpretation or other reasonable accommodations should contact the BLM as indicated above.

Dated: February 7, 2008.
David Christy,
Public Affairs Officer.

[FR Doc. E8-2791 Filed 2-13-08; 8:45 am]

BILLING CODE 1820-XX-P